DEPARTMENT OF COMMERCE

[Docket No. 150911845-5999-02]

Privacy Act of 1974, Altered System of Records

AGENCY: National Oceanic and Atmospheric Administration, U.S. Department of Commerce.

ACTION: Notice of Proposed Amendment to Privacy Act System of Records: COMMERCE/NOAA-16, Crab Economic Data Report (EDR) for BSAI off the Coast of Alaska.

SUMMARY: The Department of Commerce publishes this notice to announce the effective date of a Privacy Act System of Records notice entitled “Notice of Proposed Amendment to Privacy Act System of Records: COMMERCE/NOAA-16, Crab Economic Data Report (EDR) for BSAI off the Coast of Alaska.”

DATES: The system of records becomes effective on November 23, 2015.

ADDRESSES: For a copy of the system of records please mail requests to: Sarah Brabson, NOAA Office of the Chief Information Officer, Room 9856, 1315 East-West Highway, Silver Spring, MD 20910.

FOR FURTHER INFORMATION CONTACT: Patsy A. Bearden, NMFS Alaska Region, Suite 401, 709 West Ninth Street, P.O. Box 21668, Juneau, Alaska 99802.

SUPPLEMENTARY INFORMATION: On October 9, 2015 (80 FR 61157), the Department of Commerce published a notice in the Federal Register, entitled “Notice of Proposed Amendment to Privacy Act System of Records: COMMERCE/NOAA-16, Crab Economic Data Report (EDR) for BSAI off the Coast of Alaska,” requesting comments on proposed amendments to the system of records. No comments were received in response to the request for comments. By this notice, the Department of Commerce is adopting the proposed changes to the system as final without changes effective November 23, 2015.

Dated: November 17, 2015.
Michael J. Toland,
Freedom of Information and Privacy Act Officer, Department of Commerce.

[FR Doc. 2015-29830 Filed 11-20-15; 8:45 am]

BILLING CODE 3510-22-P